DEPARTMENT OF EDUCATION

Regional Advisory Committees

AGENCY: Office of Elementary and Secondary Education, Department of Education.

ACTION: Request for nominations to serve on the Regional Advisory Committees.

SUMMARY: The Secretary of Education (Secretary) invites interested parties to submit nominations for individuals for appointment to serve on the Regional Advisory Committees (RACs).

DATES: Nominations for appointment of individuals to serve on the RACs must be submitted by May 11, 2023.

ADDRESSES: You may submit nominations, including attachments, to the Secretary by the following method:

• Electronically via electronic mail to OESE.RAC@ed.gov (please indicate “Regional Advisory Committee Nomination” in the email subject line and specify the specific Region to which you are nominating, e.g., “Regional Advisory Committee Nomination: Appalachia”).

FOR FURTHER INFORMATION CONTACT: Michelle Daley, Group Leader, Comprehensive Centers Group, Office of Program and Grantee Support Services, U.S. Department of Education. Telephone: 202-987-1057. Email: OESE.RAC@ed.gov.

If you are deaf, hard of hearing, or have a speech disability and wish to access telecommunications relay services, please dial 7-1-1.

Privacy Act Statement

Purpose: The purpose of collecting nomination information is for the Secretary to consult with and seek nomination recommendations from the chief executive officers of States, chief State school officers, and education stakeholders within the Regional Advisory Committee's region on individuals for appointment for membership on a RAC. The nomination information will be used to evaluate, select, and appoint individuals for membership on RACs and to conduct necessary ethics vetting and ethics training for nominees who are appointed to the RAC. Finally, the nomination information will be used to communicate with nominees and, if appointed, with appointees to conduct the business of the RACs.

Authorities: The collection of the nomination information is authorized by the Educational Technical Assistance Act of 2002 (ETAA) (Pub. L. 107-279; 20 U.S.C. 9605); 5 U.S.C. 301; Public Law 95-521, Ethics in Government Act of 1978; Public Law 101-194, Ethics Reform Act of 1989, as amended; and Executive Orders 12674, 12565, and 11222, as amended. The (RACs) are also governed by the provisions of 5 U.S.C. chapter 10 (Federal Advisory Committees).

Routine Use Disclosures: Although the Department does not otherwise anticipate nonconsensually disclosing the information you provide outside of the Department, the Department may nonconsensually disclose such information pursuant to the published routine uses described in the following System of Records Notices: “Secretary's Communications Control System” (18-01-01), “Employee Conduct—Government Ethics” (18-09-03), and “Executive Branch Confidential Financial Disclosure Reports” (OGE/GOVT-2), the most recent versions of which are located on the Department's “Privacy Act System of Record Notice Issuances (SORN)” web page at www2.ed.gov/notices/ed-pia.html.

Consequences of Failure to Provide Information: Submitting nominations with the requested information in response to this notice is voluntary. You are not required to provide the personally identifiable information requested; however, if you do not, then the Department may not be able to consider the nominee for membership on a RAC.

SUPPLEMENTARY INFORMATION: The Secretary is establishing the RACs, one for each region served by the Regional Educational Laboratories, in order to collect information on the education needs of each region and how those needs may be addressed through technical assistance activities provided by comprehensive centers described in section 203 of the Educational Technical Assistance Act (ETAA). Comprehensive centers provide training, professional development, and technical assistance to State educational agencies (SEAs), local educational agencies (LEAs), regional educational agencies, and schools in the region where the center is located for assistance with school improvement activities and to disseminate and provide information, reports, and publications that can be used for improving academic achievement, closing achievement gaps, and encouraging and sustaining school improvement (as described in section 1111(d) of the Elementary and Secondary Education Act of 1965, as amended (20 U.S.C. 6311(d))), to schools, educators, parents, and policymakers within the region in which the center is located.

In choosing individuals for membership on the RACs, the Secretary is also seeking recommendations from the chief executive officers of States, chief State school officers, and education stakeholders within each region served by the Regional Educational Laboratories.

The RACs will seek input regarding the need for the technical assistance activities described in section 203 of the ETAA and how those needs would be most effectively addressed. In order to achieve this purpose, the RACs will seek input from chief executive officers of States; chief State school officers; and, through processes which may include open hearings to solicit the views and needs of schools (including public charter schools), educators, parents, teachers, administrators, members of the Regional Educational Laboratory Governing Board, LEAs, librarians, businesses, SEAs, and other customers (such as adult education programs) within the region regarding the need for the activities described in 20 U.S.C. 9564 and 9602 and how those needs would be most effectively addressed.

Not later than 6 months after each RAC is first convened, it will submit a report to the Secretary based on the assessment of education needs within each region to be served. Each report will contain an analysis of the needs of the region and technical advice to the Secretary regarding how those needs would be most effectively addressed. Under section 207 of the ETAA, the Secretary shall establish priorities for the comprehensive centers to address, taking into account these regional assessments and other relevant regional surveys of education needs to the extent the Secretary deems appropriate.

Section 206(b) of the ETAA requires that the membership of each RAC contain a balanced representation of States in the region and include not more than one representative of each SEA geographically located in the region. The membership of each RAC may include the following: representatives of LEAs, both rural and urban; representatives of institutions of higher education, including those that represent university-based research on education and subjects other than education; parents; practicing educators, including classroom teachers, principals, administrators, school board members, and other local school officials; representatives of business; and researchers. Each RAC will be comprised of not more than 25 members.

Nomination Process

Any interested person or organization may nominate one or more qualified individuals for membership. Please be sure to use the information noted in the ADDRESSES section of this notice and include the name of the RAC to which the nomination applies in the subject line. If you would like to nominate an individual or yourself for appointment to one of the RACs listed below, please submit the following information:

(a) A cover letter addressed to Honorable Miguel Cardona, Secretary of Education. Please provide in the cover letter, the reason(s) the nominated individual is interested in being selected as a nominee for appointment by the Secretary to serve on a RAC.

Attachments:

(b) A copy of the nominee's resume/curriculum vitae;

(c) Contact information for the nominee (name, title, mailing address, phone number, and email address); and

(d) The group(s) the nominee may qualify to represent from the following categories (list all that apply):

(1) SEA.

(2) LEA, including:

(i) Rural LEA.

(ii) Urban LEA.

(3) Practicing educator.

(i) Classroom teacher.

(ii) School principal.

(iii) Other school administrator.

(iv) School board member.

(v) Other local school official.

(4) Parent.

(5) Institution of higher education.

(i) University-based education research.

(ii) University-based research on subjects other than education.

(6) Business.

(7) Researcher.

In addition, the cover letter must state that the nominee (if you are nominating someone other than yourself) has agreed to be nominated and is willing to serve, if appointed, on one of the RACs.

Nominees will be appointed based on technical qualifications, professional experience, demonstrated knowledge of issues, demonstrated experience, integrity, impartiality, and good judgment.

The RAC regions are:

1. Appalachia (Kentucky, Tennessee, Virginia, and West Virginia);

2. Central (Colorado, Kansas, Missouri, Nebraska, North Dakota, South Dakota, and Wyoming);

3. Mid-Atlantic (Delaware, District of Columbia, Maryland, New Jersey, and Pennsylvania);

4. Midwest (Illinois, Indiana, Iowa, Michigan, Minnesota, Ohio, and Wisconsin);

5. Northeast and Islands (Connecticut, Massachusetts, Maine, New Hampshire, New York, Puerto Rico, Rhode Island, Vermont, and the Virgin Islands);

6. Northwest (Alaska, Idaho, Montana, Oregon, and Washington);

7. Pacific (American Samoa, Commonwealth of the Northern Mariana Islands, Federated States of Micronesia, Guam, Hawaii, Palau, and Republic of the Marshall Islands);

8. Southeast (Alabama, Florida, Georgia, Mississippi, North Carolina, and South Carolina);

9. Southwest (Arkansas, Bureau of Indian Education, Louisiana, New Mexico, Oklahoma, and Texas); and

10. West (Arizona, California, Nevada, and Utah).

Appointment

The Secretary will appoint members for the life of the committee, which will span not more than 6 months. The committee will meet at least two times during this period. In the event an individual is appointed by the Secretary to fill a vacancy occurring prior to the expiration of the full term, the RAC member will be appointed to complete the remaining term of service of the former RAC member. All appointed RAC members will serve without compensation.

Each RAC may be comprised of both representatives of organizations or recognizable groups of persons and Special Government Employees (SGEs). Representative members will not provide their own personal or independent advice based on their own individual expertise and experience, but rather, gather and synthesize information and the views of stakeholders they represent. SGE members will be chosen for their individual expertise, qualifications, and experiences; they will provide technical advice and recommendations based on their independent judgment and will not be speaking for, or representing the views of, any nongovernmental organization or recognizable group of persons.

Accessible Format: Upon request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is published in the Federal Register. You may access the official edition of the Federal Register and the Code of Federal Regulations at www.govinfo.gov. At this site, you can view this document, as well as other documents of this Department published in the Federal Register, in text or PDF. To use PDF, you must have Adobe Acrobat Reader, which is available free at the site.

You may also access documents of the Department published in the Federal Register by using the article search feature at: www.federalregister.gov. Specifically, through the advanced search feature at this site, you can limit your search to documents published by the Department.

Miguel A. Cardona,
Secretary of Education.

[FR Doc. 2023-07480 Filed 4-10-23; 8:45 am]

BILLING CODE 4000-01-P